DEPARTMENT OF THE TREASURY

Submission for OMB Review; Comment Request

August 8, 2011.

The Department of Treasury will submit the following public information collection requirement(s) to OMB for review and clearance under the Paperwork Reduction Act of 1995, Public Law 104-13 on or after the date of publication of this notice. A copy of the submission(s) may be obtained by calling the Treasury Bureau Clearance Officer listed. Comments regarding this information collection should be addressed to the OMB reviewer listed and to the Treasury Department Clearance Officer, Department of the Treasury, Room 11010, 1750 Pennsylvania Avenue, NW., Washington, DC 20220.

DATES: Written comments should be received on or before September 12, 2011 to be assured of consideration.

Financial Crimes Enforcement Network (FinCEN)

OMB Number: 1506-0043.

Type of Review: Extension without change of a currently approved collection.

Title: Correspondent Accounts for Foreign Shell Banks; Record keeping and Termination of Correspondent Accounts.

Abstract: These rules prohibit domestic financial institutions from maintaining correspondent accounts with foreign shell banks and require such institutions to maintain records of the owners, and agents, for service of legal process of foreign banks.

Affected Public: Private Sector: Businesses or other for-profits, not-for-profit institutions.

Estimated Total Burden Hours: 306,000.

OMB Number: 1506-0051.

Type of Review: Extension without change of a currently approved collection.

Title: Special rules for casinos (31 CFR 1021.210, 1021.410(b)(10), and 1010.430.

Abstract: This section provides special rules for casinos, including the requirement that casinos maintain a written anti money laundering compliance program.

Affected Public: Private Sector: Businesses or other for-profits.

Estimated Total Burden Hours: 92,500.

OMB Number: 1506-0052.

Type of Review: Extension without change of a currently approved collection.

Title: Additional records to be made and retained by currency dealers or exchangers (31 CFR 1022.410 & 1010.430.

Abstract: A currency dealer or exchanger must make and maintain a record of the taxpayer identification number of certain persons for whom a transaction account is opened or a line of credit is extended, and must maintain a list containing the names, addresses, and account or credit line numbers of those persons from whom it has been unable to secure such information. A currency dealer or exchanger must retain the original or a copy of certain documents, as specified in section 1022.410. The required records must be maintained for five years (31 CFR 1010.430).

Affected Public: Private Sector: Businesses or other for-profits.

Estimated Total Burden Hours: 36,800.

OMB Number: 1506-0053.

Type of Review: Extension without change of a currently approved collection.

Title: Additional records to be made and retained by brokers or dealers in securities (31 CFR 1023.410 & 1010.430).

Abstract: A broker or dealer in securities must retain an original or copy of certain documents, as specified in section 1023.410. The required records must be maintained for five years (31 CFR 1010.430).

Affected Public: Private Sector: Businesses or other for-profits, not-for-profit institutions.

Estimated Total Burden Hours: 830,000.

OMB Number: 1506-0054.

Type of Review: Extension without change of a currently approved collection.

Title: Additional records to be made and retained by casinos (31 CFR 1021.410 & 1010.430).

Abstract: Casinos (and card clubs) must make and retain a record of the name, permanent address, and taxpayer identification number each person who deposits funds with the casino, opens an account at the casino, or to whom the casino extends a line of credit (and maintain a list, available to the Secretary upon request, of the names and addresses of persons who do not furnish a taxpayer identification number), and must retain the original or a copy of certain documents, as specified in section 1021.410(a)&(b)(1)-(8)). Casinos must also maintain a list of transactions with customers involving certain instruments (31 CFR 1021.410(b)(9)). Card clubs must maintain records of currency transactions by customers and records of activity at cages (31 CFR 1021.410(b)(11)). Casinos that input, store, or retain required records on computer disk, tape or other machine-readable media must maintain the records on such media (31 CFR 1021.410(c)). Required records must be maintained for five years (31 CFR 1010.430).

Affected Public: Private Sector: Businesses or other for-profits.

Estimated Total Burden Hours: 121,056.

OMB Number: 1506-0055.

Type of Review: Extension without change of a currently approved collection.

Title: Reports of transactions with foreign financial agencies (31 CFR 1010.360).

Abstract: Treasury may, by regulation, require specified financial institutions to report transactions by persons with designated foreign financial agencies.

Affected Public: Private Sector: Businesses or other for-profits, not-for-profit institutions.

Estimated Total Burden Hour: 1.

OMB Number: 1506-0056.

Type of Review: Extension without change of a currently approved collection.

Title: Reports of certain domestic coin and currency transactions (31 CFR 1010.370 & 1010.410(d)).

Abstract: Upon a finding that additional reporting or recordkeeping is necessary to carry out the purposes, or prevent the evasion, of the Bank Secrecy Act, Treasury may issue an order requiring financial institutions or groups of financial institutions in certain geographic locations to report certain transactions in prescribed amounts for a limited period of time (31 CFR 1010.360). Financial institutions subject to a geographic targeting order must maintain records for such period of time as the order requires but not more than 5 years (31 CFR 1010.410(d)). Although the burden is stated as an annual burden in accordance with the Paperwork Reduction Act, the estimated annual burden is not intended to indicate that there is a geographic targeting order in effect throughout a year or in each year.

Affected Public: Private Sector: Businesses or other for-profits.

Estimated Total Burden Hours: 6,800.

OMB Number: 1506-0057.

Type of Review: Extension without change of a currently approved collection.

Title: Purchases of bank checks and drafts, cashier's checks, money orders and traveler's checks (31 CFR 1010.415 & 31 CFR 1010.430).

Abstract: Financial institutions must maintain records of certain information related to the sale of bank checks and drafts, cashier's checks, money orders, or traveler's checks when the sale involves currency between $3,000 and $10,000. The records must be maintained for a period of five years and be made available to Treasury upon request.

Affected Public: Private Sector: Businesses or other for-profits.

Estimated Total Burden Hours: 456,750.

OMB Number: 1506-0058.

Type of Review: Extension without change of a currently approved collection.

Title: Records to be made and retained by financial institutions (31 CFR 1010.410 and 1010.430).

Abstract: Each financial institution must retain an original or copy of records related to extensions of credit in excess of $10,000 (other than those secured by real property), and records related to transfers of funds, currency, other monetary instruments, checks, investment securities, or credit of more than $10,000 to or from the United States (31 CFR 1010.410(a)-(d)). Banks and non-bank financial institutions must also maintain records related to, and include certain information as part of, funds transfers or transmittals of funds involving more than $3,000 (31 CFR 1010.410(e)-(f)-(g). The required records must be maintained for five years (31 CFR 1010.430).

Affected Public: Private Sector: Businesses or other for-profits.

Estimated Total Burden Hours: 2,139,000.

OMB Number: 1506-0059.

Type of Review: Extension without change of a currently approved collection.

Title: Additional records to be made and retained by banks (31 CFR 1020.410 and 1010.430).

Abstract: A bank must retain an original or copy of certain documents, as specified in section 1020.410. The required records must be maintained for five years (31 CFR 1010.430).

Affected Public: Private Sector: Businesses or other for-profits, not-for-profit institutions.

Estimated Total Burden Hours: 2,290,000.

Bureau Clearance Officer: Russell Stephenson, Department of the Treasury, Financial Crimes Enforcement Network, P.O. Box 39, Vienna, VA 22183; (202) 354-6012.

OMB Reviewer: Shagufta Ahmed, Office of Management and Budget, New Executive Office Building, Room 10235, Washington, DC 20503; (202) 395-7873.

Dawn D. Wolfgang,
Treasury PRA Clearance Officer.

[FR Doc. 2011-20478 Filed 8-11-11; 8:45 am]

BILLING CODE 4810-02-P